DEPARTMENT OF DEFENSE

Office of the Secretary

Availability of the Fiscal Year 2012 Inventory of Contracts for Services

AGENCY: Department of Defense (DoD).

ACTION: Notice of availability.

SUMMARY: DoD announces the availability of the Inventory of Contracts for Services for Fiscal Year 2012 pursuant to section 2330a of title 10, United States Code. Inventory is available to the public.

DATES: Comments should be submitted by August 16, 2013.

ADDRESSES: Submit comments to: Office of the Director, Defense Procurement and Acquisition Policy, ATTN: OUSD(AT&L)DPAP/CPIC, 3060 Defense Pentagon, Washington, DC 20301-3060. Comments also may be submitted by email to Jeffrey.Grover@osd.mil

FOR FURTHER INFORMATION CONTACT: Jeff Grover, telephone 703-697-9352.

SUPPLEMENTARY INFORMATION: In accordance with section 2330a of title 10 United States Code, the Office of the Deputy Director, Defense Procurement and Acquisition Policy, Contract Policy and International Contracting (DPAP/CPIC) will make available to the public the annual inventory of contracts for services. The inventory is posted to the Defense Procurement and Acquisition Policy Web site at: http://www.acq.osd.mil/dpap/cpic/cp/acquisition_of_services_policy.html

Manuel Quinones,
Editor, Defense Acquisition Regulations System.

[FR Doc. 2013-18152 Filed 7-26-13; 8:45 am]

BILLING CODE 5001-06-P